DEPARTMENT OF THE INTERIOR

Bureau of Indian Affairs

Notice of Fund Availability (NOFA)

AGENCY: Bureau of Indian Affairs, Interior.

ACTION: Notice of extension of application deadlines.

SUMMARY: This notice extends the deadline for submitting applications originally published on June 25, 2003.

DATES: Applications must be received by November 5, 2003.

ADDRESSES: Mail applications to Ralph Gonzales, Bureau of Indian Affairs, Office of Tribal Services, Division of Tribal Government Services, Room 320-SIB, 1951 Constitution Avenue, NW., Washington, DC 20240; or submit by facsimile (fax) message to (202) 208-5113.

FOR FURTHER INFORMATION CONTACT: Ralph Gonzales, (202) 513-7629.

SUPPLEMENTARY INFORMATION: As published in the Federal Register of June 25, 2003, (68 FR 37857), the Bureau of Indian Affairs announced the availability of funds for tribal courts (including Courts of Indian Offenses) and qualified tribal applicants that assume responsibility to assist the Bureau of Indian Affairs with certain Supervised Individual Indian Money (IIM) Accounts, more specifically those referenced in subparts B and C of 25 CFR part 115 (2003 ed.). The deadline for submittal of application under this NOFA was July 25, 2003. We are extending this deadline to provide an opportunity for those tribal governments that want to apply for funds to compile the relevant information regarding Supervised IIM Accounts that are under the control and management of the Bureau of Indian Affairs. Requests were received from tribal governments stating that the initial publication time was simply too short. Therefore, the application deadline date is extended from July 25, 2003, to November 5, 2003.

Applications

Applications are due November 5, 2003 and must be postmarked by midnight on this date. Applications will be considered as meeting the deadline if they are received on or before the deadline date, or sent on or before the deadline date. Applicants may hand deliver applications to the address indicated in the ADDRESSES section by close-of-business (5 p.m. EST) on the deadline date. Applications will be accepted by facsimile until the close-of-business (5 p.m. EST) on the deadline date, provided the original application is postmarked by midnight the day after the due date. No applications can be transmitted by e-mail (electronic mail). Applicants are responsible for ensuring proper delivery of the application and are encouraged to contact Ralph Gonzales at (202) 513-7629 to confirm receipt.

The application packet information was included with the June 25, 2003, NOFA, and was also forwarded to the Tribal Government Services or Tribal Operations officers in the respective BIA Regional Offices. Interested applicants may contact Ralph Gonzales at the number provided above, or the Division of Tribal Government Services, (202) 513-7641, for information on application packets.

Dated: September 29, 2003.
Aurene M. Martin,
Principal Deputy Assistant Secretary—Indian Affairs.

[FR Doc. 03-25229 Filed 10-3-03; 8:45 am]

BILLING CODE 4310-4J-P